DEPARTMENT OF LABOR

Employment and Training Administration

Proposed Information Collection Request Submitted for Public Comment and Recommendations; Program Year (PY) 2005 Workforce Information Core Products and Services Grants Planning Guidance

Correction

In notice document E4-3078 beginning on page 64977 in the issue of Tuesday, November 9, 2004, make the following correction:

On page 64978, in the first column, under the heading “dates”, in the second line, “January 10, 2004” should read “January 10, 2005”.

[FR Doc. Z4-3078 Filed 11-15-04; 8:45 am]

BILLING CODE 1505-01-D

DEPARTMENT OF TRANSPORTATION

Federal Aviation Administration

14 CFR Part 71

[Docket No. FAA-2004-17616; Airspace Docket No. 04-ASO-6]

Amendment of Class E Airspace; Dayton, TN

Correction

In rule document 04-15554 beginning on page 41189 in the issue of Thursday, July 8, 2004, make the following corrections:

§ 71.1 [Corrected]

1. On page 41190, in the second column, in § 71.1, under the heading ASO TN E5 Dayton, TN [Revised], in the fourth line, “(lat. 35°13”12’ N, long. 84°55”57’ W)” should read “(lat. 35°13’12” N, long. 84°49’57” W).”

2. On the same page, in the same column, in the same section, under the heading Bradley Memorial Hospital, Cleveland, TN, in the 12th line, “(lat. 35°”34’ N, long.” should read “(lat. 35°37’34” N, long.”

[FR Doc. C4-15554 Filed 11-15-04; 8:45 am]

BILLING CODE 1505-01-D